DEPARTMENT OF ENERGY

Federal Energy Regulatory Commission

Combined Notice of Filings # 1

September 15, 2008.

Take notice that the Commission received the following electric corporate filings:

Docket Numbers: EC08-124-000.

Applicants: Suez Energy North America, Inc., SUEZ Bidco, LLC, Energy Capital Partners GP I, LLC, FirstLight Power Enterprise, Inc.

Description: SUEZ Energy North America, Inc's et al Joint application for authorization under Section 203 of the Federal Power Act, request for waiver of certain Commission requirements etc.

Filed Date: 09/09/2008.

Accession Number: 20080911-0101.

Comment Date: 5 p.m. Eastern Time on Tuesday, September 30, 2008.

Docket Numbers: EC08-125-000.

Applicants: NaturEner Glacier Wind Energy 1, LLC, NaturEner Montana Wind Energy LLC, NaturEner Glacier Financing, LLC.

Description: Application for Authorization of Disposition of Jurisdictional Facilities and Requests for Expedited Consideration and Confidential Treatment of NaturEner Montana Wind Energy, LLC, et al.

Filed Date: 09/12/2008.

Accession Number: 20080912-5088.

Comment Date: 5 p.m. Eastern Time on Friday, October 03, 2008.

Take notice that the Commission received the following exempt wholesale generator filings:

Docket Numbers: EG08-87-000.

Applicants: Crystal Lake Wind, LLC.

Description: Notice of Self-Certification of Exempt Wholesale Generator Status.

Filed Date: 08/26/2008.

Accession Number: 20080826-5086.

Comment Date: 5 p.m. Eastern Time on Tuesday, September 16, 2008.

Docket Numbers: EG08-88-000.

Applicants: Crystal Lake Wind II, LLC.

Description: Notice of Self-Certification of Exempt Wholesale Generator Status.

Filed Date: 08/26/2008.

Accession Number: 20080826-5087.

Comment Date: 5 p.m. Eastern Time on Tuesday, September 16, 2008.

Docket Numbers: EG08-89-000.

Applicants: Osceola Windpower II, LLC.

Description: Notice of Self-Certification of Exempt Wholesale Generator Status.

Filed Date: 08/26/2008.

Accession Number: 20080826-5088.

Comment Date: 5 p.m. Eastern Time on Tuesday, September 16, 2008.

Docket Numbers: EG08-90-000.

Applicants: Story Wind, LLC.

Description: Notice of Self-Certification of Exempt Wholesale Generator Status.

Filed Date: 08/26/2008.

Accession Number: 20080826-5089.

Comment Date: 5 p.m. Eastern Time on Tuesday, September 16, 2008.

Take notice that the Commission received the following electric rate filings:

Docket Numbers: ER98-4400-011.

Applicants: Pittsfield Generating Company, L.P.

Description: Pittsfield Generating Company, L.P. notification of change in status.

Filed Date: 09/12/2008.

Accession Number: 20080912-5079.

Comment Date: 5 p.m. Eastern Time on Friday, October 03, 2008.

Docket Numbers: ER04-805-008.

Applicants: Wabash Valley Power Association, Inc.

Description: Wabash Valley Power Association, Inc submits the corrected Second Revised Sheet 1 to FERC Electric Tariff, Original Volume 2 as a replacement to the sheet submitted 8/14/08 etc.

Filed Date: 09/08/2008.

Accession Number: 20080912-0103.

Comment Date: 5 p.m. Eastern Time on Monday, September 29, 2008.

Docket Numbers: ER08-1398-001.

Applicants: Smoky Hills Wind Project II, LLC.

Description: Smoky Hills Wind Project II, LLC submits an Amendment to Application for Order Accepting Market-Based Rate tariff, Granting Waivers and Blanket Authority, and Request for Waiver of Prior Notice Requirement etc.

Filed Date: 09/10/2008.

Accession Number: 20080912-0119.

Comment Date: 5 p.m. Eastern Time on Monday, September 22, 2008.

Docket Numbers: ER08-1513-000.

Applicants: ISO New England Inc.

Description: ISO New England, Inc submits an informational filing for qualification in the Forward Capacity Market.

Filed Date: 09/09/2008.

Accession Number: 20080912-0121.

Comment Date: 5 p.m. Eastern Time on Wednesday, September 24, 2008.

Docket Numbers: ER08-1514-000.

Applicants: American Transmission Systems, Incorporated.

Description: American Transmission Systems, Inc submits a Construction Agreement with Buckeye Power, Inc et al to be effective 9/4/08.

Filed Date: 09/10/2008.

Accession Number: 20080912-0115.

Comment Date: 5 p.m. Eastern Time on Wednesday, October 01, 2008.

Docket Numbers: ER08-1519-000.

Applicants: Ohio Valley Electric Corporation.

Description: Ohio Valley Electric Corporation submits an ATC Calculation Agreement between OVEC and Southwest Power Pool, Inc.

Filed Date: 09/10/2008.

Accession Number: 20080912-0168.

Comment Date: 5 p.m. Eastern Time on Wednesday, October 1, 2008.

Take notice that the Commission received the following electric securities filings:

Docket Numbers: ES08-60-001; ES08-61-001.

Applicants: MidAmerican Energy Company.

Description: MidAmerican Energy Co's revised Exhibit E worksheet for computation of interest coverage.

Filed Date: 09/12/2008.

Accession Number: 20080912-5105.

Comment Date: 5 p.m. Eastern Time on Friday, October 03, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-22318 Filed 9-23-08; 8:45 am]

BILLING CODE 6717-01-P